NATIONAL SCIENCE FOUNDATION

Advisory Committee for International Science and Engineering; Notice of Meeting

In accordance with the Federal Advisory Committee Act (Pub. L. 92-463, as amended), the National Science Foundation announces the following meeting:

Name: Advisory Committee for International Science and Engineering (#25104).

Date & Time: March 26-27, 2015 8:00 a.m. to 5:00 p.m.

Place: National Science Foundation, 4201 Wilson Boulevard, Stafford I, Suite 1235, Arlington, Virginia 22230.

To facilitate entry into the building, contact Diane Drew (ddrew@nsf.gov). Your request should be received on or prior to March 23, 2015.

Virtual attendance will be supported. For detailed instructions, visit the meeting Web site at http://www.nsf.gov/events/event_summ.jsp?preview=y&cntn_id=133123.

Type of Meeting: Open.

Contact Person: Kelsey Cook, National Science Foundation, 4201 Wilson Boulevard, Stafford II, Suite 1155, Arlington, Virginia 22230; 703-292-7490.

Purpose of Meeting: To provide advice, recommendations and counsel on major goals and policies pertaining to international programs and activities.

Agenda

Thursday, March 26, 2015, 8:00 a.m.—5:00 p.m.

Welcome and Opening Remarks—Minutes

Overview of International and Integrative Activities/International Science and Engineering (IIA/ISE)—Realignment Status

Public Access

Leadership Pillar of the Strategic Framework

ISE Strategic Directions

Discussion with NSF Assistant Directors

Meeting with France Córdova, NSF Director, and Richard Buckius, NSF Chief Operating Officer

Subcommittee Planning

Friday, March 27, 2015, 8:00 a.m.—5:00 p.m.

Subcommittee Planning

Overseas Offices

Update from the Committee on Equal Opportunities in Science and Engineering

Update from the Committee on Environmental Research and Education

Closing Remarks and Wrap Up

Dated: March 2, 2015.
Suzanne Plimpton,
Acting, Committee Management Officer.

[FR Doc. 2015-05255 Filed 3-5-15; 8:45 am]

BILLING CODE 7555-01-P